DEPARTMENT OF COMMERCE

National Oceanic and Atmospheric Administration

RIN 0648-XF034

Mid-Atlantic Fishery Management Council (MAFMC); Meeting

AGENCY: National Marine Fisheries Service (NMFS), National Oceanic and Atmospheric Administration (NOAA), Commerce.

ACTION: Notice of a public meeting.

SUMMARY: The Mid-Atlantic Fishery Management Council (MAFMC) will hold a public meeting of its Atlantic Mackerel, Squid, and Butterfish (MSB) Committee and its MSB Advisory Panel.

DATES: The meeting will be held on Thursday, December 1, 2016, from 10 a.m. to 5 p.m., to view the agenda see SUPPLEMENTARY INFORMATION.

ADDRESSES: The meeting will be held at The Doubletree Baltimore-BWI Airport, 890 Elkridge Landing Road, Linthicum, MD 21090; telephone: 410-859-8400. There will be a listen-only Webinar link available, at http://www.mafmc.org/council-events/dec-1-msb-committee-ap-meeting.

Council address: Mid-Atlantic Fishery Management Council, 800 N. State Street, Suite 201, Dover, DE 19901; telephone: (302) 674-2331 or on their Web site, at www.mafmc.org.

FOR FURTHER INFORMATION CONTACT: Christopher M. Moore, Ph.D., Executive Director, Mid-Atlantic Fishery Management Council, telephone: (302) 526-5255.

SUPPLEMENTARY INFORMATION:

Agenda

The Mid-Atlantic Fishery Management Council's Atlantic Mackerel, Squid, and Butterfish (MSB) Committee will meet jointly with the MSB Advisory Panel to develop recommendations on alternatives to include in an Amendment that could affect the squid fisheries. The amendment could reduce the capacities of the longfin squid and Illex squid fleets. The Council is considering this action because of concern that activation of latent capacity in the squid fisheries could lead to excessive fishing effort and increased catch of non-target species. Several other issues are being considered as well: (1) New permits for Maine/northern states; (2) re-evaluation of longfin squid trimesters; (3) longfin squid buffer zones beyond state waters in the area south of Martha's Vineyard/Nantucket; and (4) revision of the goals and objectives of the MSB Fishery Management Plan. A detailed agenda and background documents will be made available on the Council's Web site, at www.mafmc.org, prior to the meeting. Additional information is also available at the Web page for this action: http://www.mafmc.org/actions/squid-capacity-amendment.

These meetings are physically accessible to people with disabilities. Requests for sign language interpretation or other auxiliary aid should be directed to M. Jan Saunders, (302) 526-5251, at least 5 business days prior to the meeting date.

Authority: 16 U.S.C. 1801 et seq.

Dated: November 9, 2016.
Tracey L. Thompson,
Acting Director, Office of Sustainable Fisheries, National Marine Fisheries Service.

[FR Doc. 2016-27433 Filed 11-14-16; 8:45 am]

BILLING CODE 3510-22-P